DEPARTMENT OF COMMERCE

National Oceanic and Atmospheric Administration

[I.D. 050405B]

North Pacific Fishery Management Council; Notice of Public Meeting

AGENCY: National Marine Fisheries Service (NMFS), National Oceanic and Atmospheric Administration (NOAA), Commerce.

ACTION: Meetings of the North Pacific Fishery Management Council and Alaska Board of Fisheries Interim Joint Protocol committee.

SUMMARY: The North Pacific Fishery Management Council (Council) Joint Protocol Committee of the Alaska Board of Fisheries and Council will meet on May 25, 2005 in Anchorage at the Hawthorn Suite, Ltd, Ballroom B.

DATES: May 25, 8;30am - 4:30pm.

ADDRESSES: Hawthorn Suites, Ltd, 1110 West 8th Avenue, Anchorage, AK 99501

Council address: North Pacific Fishery Management Council, 605 W. 4th Ave., Suite 306, Anchorage, AK 99501-2252.

FOR FURTHER INFORMATION CONTACT: Council staff, Phone: 907-271-2809.

SUPPLEMENTARY INFORMATION: The meeting will be to discuss the Board of Fisheries proposal #455 (state water pollock fisheries within Steller Sea lion critical habitat). This will be an initial organizational meeting to discuss information needs, process and timing relative to potential actions by the Board of Fisheries or Council.

Special Accommodations

These meetings are physically accessible to people with disabilities. Requests for sign language interpretation or other auxiliary aids should be directed to Gail Bendixen at 907-271-2809 at least 7 working days prior to the meeting date.

Dated: May 4, 2005.
Emily Menashes,
Acting Director, Office of Sustainable Fisheries, National Marine Fisheries Service.

[FR Doc. E5-2227 Filed 5-6-05; 8:45 am]

BILLING CODE 3510-22-S